DEPARTMENT OF ENERGY

Federal Energy Regulatory Commission

[Docket No. RP02-378-000]

Texas Gas Transmission Corporation; Notice of Proposed Changes in FERC Gas Tariff

July 10, 2002.

Take notice that on July 1, 2002, Texas Gas Transmission Corporation (Texas Gas) tendered for filing as part of its FERC Gas Tariff, First Revised Volume No. 1, Sixth Revised Sheet No. 146, Sheet No. 237, Original Sheet No. 239, Original Sheet No. 240, Original Sheet No. 241 and Sheet No. 242, to become effective August 1, 2002:

Texas Gas states that the purpose of this filing is to modify Texas Gas's tariff to allow it to establish a website for the purpose of conducting limited interactive web-based auctions on the internet (the “Auction Website”). In Order No. 637, the Commission encouraged pipelines to voluntarily develop capacity auctions and to file proposals for implementing auctions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-17813 Filed 7-15-02; 8:45 am]

BILLING CODE 6717-01-P